DEPARTMENT OF COMMERCE

Submission for OMB Review; Comment Request

The Department of Commerce (DoC) will submit to the Office of Management and Budget (OMB) for clearance the following proposal for collection of information under the emergency provisions of the Paperwork Reduction Act (44 (44 U.S.C. Chapter 35)).

Agency: National Institute of Standards and Technology (NIST).

Title: NIST Summer Institute for Middle School Science Teachers (NIST Summer Institute) and NIST Research Experience for Teachers (NIST RET) Application Requirements.

OMB Control Number: None.

Form Number(s): NIST-1103.

Type of Request: Emergency submission.

Burden Hours: 400.

Number of Respondents: 100.

Average Hours per Response: 4.

Needs and Uses: The NIST Summer Institute and the NIST RET are competitive financial assistance (cooperative agreement) programs designed to support middle school science teachers to participate in hands-on activities, lectures, tours, visits, or in scientific research with scientists and engineers in NIST laboratories in Gaithersburg, Maryland, that will encourage them to inspire students to pursue careers in science, technology, engineering, and mathematics (STEM) fields.

To receive funding, nominated teachers must submit applications for potential selection to participate in the NIST Summer Institute or the NIST RET. This request is for the information collection requirements associated with applying for funding. The information will be used to perform the requisite reviews of the applications to determine if an award should be granted. In order to begin and complete the application and award processes before the end of this school year, NIST is requesting approval by February 4, 2011.

Once OMB approval is received, NIST will announce competitions under these two programs in February 2011, applications will be received in March, and applications can be reviewed and funding decisions made in time to start the programs in July. The regular Paperwork Reduction Act process would delay the collection beyond this timeframe.

Affected Public: Middle school (Grades 6-8) science teachers in a U.S. public school district or U.S. accredited private educational institution.

Frequency: Annually.

Respondent's Obligation: Required to obtain or retain a benefit.

OMB Desk Officer: Jasmeet Seehra, (202) 395-3123.

Copies of the above information collection proposal can be obtained by calling or writing Diana Hynek, Departmental Paperwork Clearance Officer, (202) 482-0266, U.S. Department of Commerce, Room 6616, 14th and Constitution Avenue, NW., Washington, DC 20230 (or via the Internet at dHynek@doc.gov).

Written comments and recommendations for the proposed information collection should be sent by February 4, 2011 to Jasmeet Seehra, OMB Desk Officer, FAX number (202) 395-5167 or via the Internet at Jasmeet_K._Seehra@omb.eop.gov.

Dated: January 6, 2011.
Gwellnar Banks,
Management Analyst, Office of the Chief Information Officer.

[FR Doc. 2011-399 Filed 1-11-11; 8:45 am]

BILLING CODE 3510-13-P